ENVIRONMENTAL PROTECTION AGENCY

40 CFR Part 271

[FRL-6704-8]

Minnesota: Final Authorization of State Hazardous Waste Management Program Revisions

AGENCY: Environmental Protection Agency (EPA).

ACTION: Proposed rule.

SUMMARY: Minnesota has applied to EPA for Final authorization of the changes to its hazardous waste program under the Resource Conservation and Recovery Act (RCRA). These changes include granting the State authority for the wood preserving rules, petroleum refinery sludge listings, and technical amendments to existing regulations. EPA proposes to grant final authorization to Minnesota. In the “Rules and Regulations” section of this Federal Register, EPA is authorizing the changes by an immediate final rule. EPA did not make a proposal prior to the immediate final rule because we believe this action is not controversial and do not expect comments that oppose it. We have explained the reasons for this authorization in the preamble to the immediate final rule. Unless we get written comments which oppose this authorization during the comment period, the immediate final rule will become effective on the date it establishes, and we will not take further action on this proposal. If we get comments that oppose this action, we will withdraw the immediate final rule and it will not take effect. We will then respond to public comments in a later final rule based on this proposal. You may not have another opportunity for comment. If you want to comment on this action, you must do so at this time.

DATES: Send your written comments by June 26, 2000.

ADDRESSES: Send written comments referring to Docket Number Minnesota ARA 8, to Gary Westefer, Minnesota Regulatory Specialist, U.S. EPA Region 5, DM-7J, 77 West Jackson Boulevard, Chicago, Illinois 60604, (312) 886-7450. Please refer to Docket Number MN ARA 8. You can examine copies of the materials submitted by Minnesota during normal business hours at the following locations: Minnesota Pollution Control Agency, 520 Lafayette Road, North, St. Paul, Minnesota 55155, contact Nathan Cooley (651) 297-7544, and EPA Region 5, contact Gary Westefer, Minnesota Regulatory Specialist, U.S. EPA Region 5, DM-7J, 77 West Jackson Boulevard, Chicago, Illinois 60604, (312) 886-7450.

FOR FURTHER INFORMATION CONTACT: Gary Westefer at the above address and phone number.

SUPPLEMENTARY INFORMATION: For additional information, please see the immediate final rule published in the “Rules and Regulations” section of this Federal Register.

Dated: May 3, 2000.
Elissa Speizman,
Acting Regional Administrator, Region 5 .

[FR Doc. 00-12954 Filed 5-24-00; 8:45 am]

BILLING CODE 6560-50-P